DEPARTMENT OF TRANSPORTATION

Federal Railroad Administration

[Docket No. FRA-2017-0002-N-12]

Proposed Agency Information Collection Activities; Comment Request

AGENCY: Federal Railroad Administration (FRA), Department of Transportation (DOT).

ACTION: Notice and comment request.

SUMMARY: Under the Paperwork Reduction Act of 1995 (PRA), this notice announces that FRA is forwarding the currently approved Information Collection Request (ICR) abstracted below to the Office of Management and Budget (OMB) for review and comment. The ICR describes the information collection and its expected burden.

DATES: Comments must be submitted on or before October 13, 2017.

ADDRESSES: Send comments regarding these information collections to the Office of Information and Regulatory Affairs, Office of Management and Budget, 725 17th Street NW., Washington, DC 20503, Attention: FRA Desk Officer. Comments may also be sent via email to OMB at the following address: oira_submissions@omb.eop.gov.

Comments are invited on the following: Whether the proposed collection of information is necessary for DOT to properly perform its functions, including whether the information will have practical utility; the accuracy of DOT's estimates of the burden of the proposed information collections; ways to enhance the quality, utility, and clarity of the information to be collected; and ways to minimize the burden of the collections of information on respondents, including the use of automated collection techniques or other forms of information technology.

A comment to OMB is best assured of having its full effect if OMB receives it within 30 days of publication of this notice in the Federal Register.

FOR FURTHER INFORMATION CONTACT: Ms. Kim Toone, Information Collection Clearance Officer, Office of Administration, Office of Information Technology, RAD-20, Federal Railroad Administration, 1200 New Jersey Avenue SE., Mail Stop 35, Washington, DC 20590 (Telephone: (202) 493-6132).

SUPPLEMENTARY INFORMATION: The PRA, 44 U.S.C. 3501-3520, and its implementing regulations, 5 CFR part 1320, require Federal agencies to issue two notices seeking public comment on information collection activities before OMB may approve paperwork packages. 44 U.S.C. 3506, 3507; 5 CFR 1320.5, 1320.8(d)(1), and 1320.10. On May 2, 2017, FRA published a 60-day notice in the Federal Register soliciting comment on the ICR for which it is now seeking OMB approval. See 82 FR 20530. FRA received no comments in response to this notice.

Before OMB decides whether to approve these proposed collections of information, it must provide 30 days for public comment. 44 U.S.C. 3507(b); 5 CFR 1320.12(d). Federal law requires OMB to approve or disapprove paperwork packages between 30 and 60 days after the 30-day notice is published. 44 U.S.C. 3507(b)-(c); 5 CFR 1320.12(d); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summary below describes the ICR and its expected burden. FRA is submitting the new request for clearance by OMB as the PRA requires.

Title: Experimental Investigation of Automation-Induced Human Error in Locomotive Cab.

OMB Control Number: 2130-XXXX.

Abstract: The purpose of this collection is to identify and evaluate the potential for human error associated with the operation of systems and automation in the locomotive cab. This research addresses DOT's strategic goal of safety. Once the nature and risk of the human error in locomotive cab systems and automation is better understood, error mitigating steps can be taken to provide safer systems and reduce the risk of accidents or incidents involving these systems. FRA will use the research's results to identify training, operational procedures, or automation design standards that will improve the safety of automated systems in locomotive cabs.

Type of Request: New information collection request.

Affected Public: Railroad Engineers.

Form(s): N/A.

Total Estimated Annual Responses: 30.

Total Estimated Annual Burden: 195 hours.

Title: Design and Evaluation of a Robust Manual Locomotive Operating Mode.

OMB Control Number: 2130-XXXX.

Abstract: The purpose of this study is to design and evaluate a prototype locomotive operating mode that allows an operator to “manually” control a train by providing a desired speed target while the control system determines the throttle notch changes required. This research addresses DOT's strategic goal of safety. Information collected from this research will be used by researchers and equipment designers to evaluate the merit of a prototype display and control configuration maximizing the use of both automation and human capabilities. The information will also assist the Federal government in recommending display design standards to the rail industry for future displays and the results may help design future displays and controls for locomotives.

Type of Request: New information collection request.

Affected Public: Railroad Engineers and College Student Volunteers.

Form(s): N/A.

Total Estimated Annual Responses: 30.

Total Estimated Annual Burden: 270 hours.

Authority: 44 U.S.C. 3501-3520.

Brett A. Jortland,
Acting Chief Counsel.

[FR Doc. 2017-19353 Filed 9-12-17; 8:45 am]

BILLING CODE 4910-06-P